NUCLEAR REGULATORY COMMISSION

[NRC-2011-0147]

Receipt of Request for Action

Notice is hereby given that by petition dated March 12, 2011, Thomas Saporito (petitioner) has requested that the Nuclear Regulatory Commission (NRC) take action to order shutdown of all “nuclear power reactors in the USA [United States of America] which are known to be located on or near an earthquake fault-line.”

As the basis for this request, the petitioner states that following an 8.9 magnitude earthquake on March 11, 2011, in Fukushima, Japan, one or more nuclear power reactors there sustained significant damage which resulted in the release of radioactive particles into the environment, and that the Japanese authorities ordered a “General Emergency Evacuation,” but many Japanese citizens were not able to timely leave the affected area and were subject to radioactive contamination at this time. The petitioner further stated that many of NRC's licensees operate nuclear power reactors on or near earthquake fault lines and could, therefore, be subject to significant earthquake damage and loss-of-coolant accidents similar to that experienced by those in Japan for which an on-going state of emergency continued to unfold.

The request is being treated pursuant to Title 10 of the Code of Federal Regulations Section 2.206 of the Commission's regulations. The request has been referred to the Director of the Office of Nuclear Reactor Regulation (NRR). As provided by Section 2.206, appropriate action will be taken on this petition within a reasonable time. The NRR Petition Review Board (PRB) held two recorded teleconferences on April 14 and May 25, 2011, with the petitioner, during which the petitioner supplemented and clarified the petition. The results of those discussions were considered in the PRB's determination regarding the petitioner's request for immediate action and in establishing the schedule for the review of the petition. As a result, the PRB acknowledged the petitioner's concern about the impact of a Fukushima-type earthquake and tsunami on U.S. nuclear plants, noting that this concern is consistent with the NRC's mission of protecting public health and safety. Currently, the NRC's monitoring of the events that unfolded at Fukushima has resulted in the Commission establishing a senior-level task force to conduct a methodical and systematic review to evaluate currently available technical and operational information from the Fukushima events. This will allow the NRC to determine whether it should take certain near-term operational or regulatory actions potentially affecting all 104 operating reactors in the United States. In as much as this task force charge encompasses the petitioner's request, which has been interpreted by the PRB to be a determination if additional regulatory action is needed to protect public health and safety in the event of earthquake damage and loss-of-coolant accidents similar to those experienced by the nuclear power reactors in Japan resulting in dire consequences, the NRC is accepting the petition in part, and as described in this paragraph.

A copy of the petition, and the transcripts of the April 14 and May 25, 2011, teleconferences are available for inspection at the Commission's Public Document Room (PDR), located at One White Flint North, Public File Area O1 F21, 11555 Rockville Pike (first floor), Rockville, Maryland. Publicly available documents created or received at the NRC are accessible electronically through the Agencywide Documents Access and Management System (ADAMS) in the NRC Library at http://www.nrc.gov/reading-rm/adams.html. Persons who do not have access to ADAMS or who encounter problems in accessing the documents located in ADAMS should contact the NRC PDR Reference staff by telephone at 1-800-397-4209 or 301-415-4737, or by e-mail to PDR.Resource@nrc.gov.

For the Nuclear Regulatory Commission.
Dated at Rockville, Maryland, this 28th day of June, 2011.
Eric J. Leeds,
Director, Office of Nuclear Reactor Regulation.

[FR Doc. 2011-17163 Filed 7-7-11; 8:45 am]

BILLING CODE 7590-01-P